DEPARTMENT OF AGRICULTURE

Forest Service

DEPARTMENT OF THE INTERIOR

Fish and Wildlife Service

Subsistence Management Regulations for Federal Public Lands in Alaska; Delegations of Authority

AGENCIES: Forest Service, USDA; Fish and Wildlife Service, Interior.

ACTION: Notice of interim delegations of authority.

SUMMARY: Pursuant to the regulatory authority found at 36 CFR 242.10(d)(6) and 50 CFR 100.10(d)(6), the Federal Subsistence Board (Board) announces interim delegations of authority for the 2000 fishing season under the Federal Subsistence Management Program (64 FR 1276). The purpose of these delegations is to be responsive to changing local conditions which require immediate opening or closing of fisheries to provide subsistence opportunities for rural subsistence users or to assure conservation of the subsistence resources.

DATES: These delegations are effective June 28, 2000.

ADDRESSES: Any comments concerning this notice may be sent to the Chair, Federal Subsistence Board, c/o Thomas H. Boyd, 3601 C Street, Suite 1030, Anchorage, Alaska, 99503.

FOR FURTHER INFORMATION CONTACT: Chair, Federal Subsistence Board, c/o U.S. Fish and Wildlife Service, Attention: Thomas H. Boyd, Office of Subsistence Management; (907) 786-3888. For questions specific to National Forest System lands, contact Ken Thompson, Regional Subsistence Program Manager, USDA, Forest Service, Alaska Region, (907) 786-3592.

SUPPLEMENTARY INFORMATION:

Background

The Federal Subsistence Board assumed subsistence management responsibility for public lands in Alaska in 1990, after the Alaska Supreme Court ruled in McDowell v. State of Alaska, 785 P.2d 1 (Alaska. 1989), reh'g denied (Alaska 1990), that the rural preference contained in the State's subsistence statute violated the Alaska Constitution. This ruling put the State's subsistence program out of compliance with Title VIII of the Alaska National Interest Lands Conservation Act (ANILCA) and resulted in the Secretaries assuming subsistence management on the public lands in Alaska. The “Temporary Subsistence Management Regulations for Public Lands in Alaska, Final Temporary Rule” was published in the Federal Register (55 FR 27114-27170) on June 29, 1990. The “Subsistence Management Regulations for Public Lands in Alaska; Final Rule” was published in the Federal Register (57 FR 22940-22964) on May 29, 1992. The Secretaries published an amended Final Rule (64 FR 1276) on January 8, 1999, that redefined the area of Federal jurisdiction to include waters subject to a subsistence priority. The regulatory amendments in that document conformed the Federal subsistence management regulations to the court decree issued in State of Alaska v. Babbitt, 72 F.3d 698 (9th Cir. 1995) cert denied 517 U.S. 1187 (1996).

In-Season Management

Most salmon fisheries in Alaska are subject to in-season management by State emergency order by local State managers who have been given delegated authority by the Commissioner of the Alaska Department of Fish and Game to enact regulatory changes within a prescribed scope and for prescribed purposes. Because the annual run strengths of migratory fish species, such as salmon, are relatively unpredictable making it difficult to forecast numbers of fish available for harvest while meeting conservation objectives, harvest openings or closings are often made at or near the time and place where the fish are taken. These are local decisions, best made by the local State managers. In-season management by delegated authority is used to avoid violating conservation mandates where delayed closures would lead to over-fishing, optimize fishing opportunities where fish runs are unpredictable, and to encourage local involvement in management decisions.

Local Federal managers will face situations where the subsistence fisheries in Federal waters will need to be opened or closed quickly in order to meet local subsistence needs or to achieve a conservation objective. Local Federal managers may also need to act quickly to close Federal waters to non-subsistence fishing, in order to protect a subsistence opportunity. Local Federal managers will need to have regulatory authority similar to that available to State managers during the 2000 season to ensure that conservation and subsistence use mandates on Federal lands are met. The need for local delegated authority will occur when Federal managers identify the need to take immediate action affecting fisheries in Federal waters.

Delegation of authority to a field manager avoids violations of conservation mandates through timely response to resource shortages. Conservation and subsistence use objectives may not be met if decisions on fishing restrictions exceed 24 hours to process. Field officials with delegated authority provide focused points of contact for local subsistence users and facilitate local liaison with State managers and other user groups. Decisions are viewed as local and in the best interests of the resource and local subsistence users. Timely in-season management decisions optimize the opportunity to harvest fish when and where they are available, without jeopardizing spawning escapement goals for specific stocks. Delayed in-season decisions by the Board, if authority is not delegated, may often miss opportunities to provide for a local subsistence priority, because a targeted fish run will have passed or stock segregation will have created a conservation risk. Emphasis on local liaison creates an environment that encourages consultation with local State managers and subsistence users to help identify restrictions necessary to conserve the resource and to provide for the subsistence priority, and does so with consideration to providing for non-subsistence fisheries when harvestable surpluses are sufficient. Delegation of authority to field managers could significantly reduce the time-consuming involvement of the Board otherwise required for in-season management decisions. The Board can establish and amend limitations on delegations, management objectives, and procedural guidelines to ensure that Board intent is implemented by field managers.

Guidelines

Pursuant to the regulatory authority found at 36 CFR 242.10(d)(6) and 50 CFR 100.10(d)(6), the Federal Subsistence Board establishes the following guidelines for Federal officials delegated to act for the Board. Affected field managers must remain involved in the decision making process with the delegated Federal official responsible for making a final decision.

a. All delegated Federal officials will become familiar with the management history of the fisheries in their area, with the current State and Federal regulations and management plans, and be up-to-date on in-season stock and harvest status information.

b. All delegated Federal officials will review Special Action requests or situations that may require a Special Action and supporting information and determine (1) if the request/situation falls within the scope of delegated authority, (2) if significant conservation problems or subsistence harvest concerns are indicated, and (3) what the consequences of taking an action may be on potentially-affected subsistence users and non-subsistence users. Requests not within the delegated authority of the delegated Federal official must be forwarded to the Federal Subsistence Board for consideration.

c. All delegated Federal officials will notify the Federal Subsistence Board and notify/consult with local ADF&G managers, Regional Advisory Council representatives, and other affected Federal conservation unit managers concerning admissible Special Actions being considered.

d. Delegated Federal officials will issue timely decisions to effectuate the outcomes sought. Users will be notified before the effective date/time of decisions. If an action is to supersede a State action not yet in effect, the decision will be communicated to affected users at least 6 hours before the State action would be effective. If a decision is to take no action, the requestor will be notified immediately. Regional Advisory Councils will be kept informed and consulted as appropriate.

Delegation of Authority

1. Only the Federal officials identified below are delegated authority to issue Special Actions to address fish stock conservation concerns or unmet subsistence harvest needs. Such action must be substantiated by clear evidence in resource monitoring information and/or corroboration from affected users/communities, and evaluated in relation to historical information.

2. Delegated authority to issue Special Actions is limited to opening or closing Federal subsistence fishing periods or areas provided for under regulations found at 36 CFR 242.26-242.27 and 50 CFR 100.26-100.27, or closing non-subsistence fishing in Federal waters. All requests to modify Federal subsistence management regulations, such as those relating to harvest limits, permit requirements, gear restrictions, or customary and traditional use determinations, must be directed to the Federal Subsistence Board.

3. The following Federal officials are delegated to act for the Federal Subsistence Board as delineated in paragraphs 1 and 2 above, for the fishery regulatory year 2000:

Geographic region | Delegated Federal official
Arctic/Kotzebue/Norton Sound, excluding Arctic National Wildlife Refuge | Western Arctic Parklands Superintendent.
Yukon River Drainage and the Arctic National Wildlife Refuge | Fairbanks Fisheries Resource Office Project Leader.
Kuskokwim, Goodnews and Kanektok River Drainages | Yukon Delta National Wildlife Refuge Manager.
Bristol Bay/Alaska Peninsula/Aleutian Islands/Chignik | King Salmon Fisheries Resource Office Project Leader.
Kodiak Region | Kodiak National Wildlife Refuge Manager.
Copper River | Wrangell/St. Elias National Park and Preserve Superintendent.
Remainder Prince William Sound Area and Cook Inlet | Cordova District Ranger.
Southeast Alaska/Yakutat:
Yakutat Area | Yakutat District Ranger.
Baranof and Chichagof Islands | Sitka District Ranger.
Admiralty Island and northern southeast Alaska inside waters | Juneau District Ranger.
Prince of Wales and associated islands | Craig District Ranger.
Kuiu, Kupreanof, and Zarembo Islands and Stikine River | Petersburg District Ranger.
Southern southeast Alaska inside waters | Ketchikan District Ranger.

Drafting Information: William Knauer drafted this policy document under the guidance of Thomas H. Boyd, of the Office of Subsistence Management, Alaska Regional Office, U.S. Fish and Wildlife Service, Anchorage, Alaska. Curt Wilson, Alaska State Office, Bureau of Land Management; Bob Gerhard, Alaska Regional Office, National Park Service; Greg Bos, Alaska Regional Office, U.S. Fish and Wildlife Service; Ida Hildebrand, Alaska Regional Office, Bureau of Indian Affairs; and Ken Thompson, USDA-Forest Service provided additional guidance.

Dated: June 15, 2000.
Kenneth E. Thompson,
Acting Regional Forester, USDA—Forest Service.

Dated: June 16, 2000.
Thomas H. Boyd,
Acting Chair, Federal Subsistence Board.

[FR Doc. 00-16038 Filed 6-27-00; 8:45 am]

BILLING CODE 3410-11-P; 4310-55-P